DEPARTMENT OF AGRICULTURE

Rural Utilities Service

Rural Broadband Access Loans and Loan Guarantees Program

AGENCY: Rural Utilities Service, USDA.

ACTION: Notice of funding availability (NOFA).

SUMMARY: The United States Department of Agriculture's (USDA) Rural Utilities Service (RUS) announces the availability of $325,663,157 in loan funds for the Rural Broadband Access Loans and Loan Guarantees Program for fiscal year (FY) 2011. A Notice of Solicitation of Applications (NOSA) was previously published in the Federal Register on March 14, 2011, at 76 FR 13797, prior to the passage of a final appropriations bill identifying a definite funding amount. The maximum amount of a loan under this authority will be $75 million. For all other information and requirements on how applicants can apply for Rural Broadband Access Loans and Loan Guarantees Program funds, please refer to the March 14, 2011, NOSA in the Federal Register and the interim regulation for the program published in the Federal Register at 76 FR 13770.

FOR FURTHER INFORMATION CONTACT: Agency Contact: Kenneth Kuchno, Director, Broadband Division, Rural Utilities Service, STOP 1599, 1400 Independence Avenue, SW., Washington, DC 20250-1599, Telephone (202) 690-4673, Facsimile (202) 690-4389.

DATES: Applications under this NOFA will be accepted immediately.

ADDRESSES: Application Requirements and Addresses: All requirements and addresses for submission of an application under the Broadband Program are set forth in the interim regulation published in the Federal Register on March 14, 2011 at 76 FR 13770.

Application Materials: Applications for the Broadband Program will be available at http://www.rurdev.usda.gov/utp_farmbill.html.

Dated: May 26, 2011.
Jonathan Adelstein,
Administrator, Rural Utilities Service.

[FR Doc. 2011-16073 Filed 6-27-11; 8:45 am]

BILLING CODE P